OVERSEAS PRIVATE INVESTMENT CORPORATION

October 23, 2003 Public Hearing; Sunshine Act

OPIC's Sunshine Act notice of its public hearing was published in the Federal Register (Volume 68, Number 194, Page 57935) on October 7, 2003. No requests were received to provide testimony or submit written statements for the record; therefore, OPIC's public hearing in conjunction with OPIC's October 30, 2003 Board of Directors meeting scheduled for 2 PM on October 23, 2003 has been cancelled.

FOR FURTHER INFORMATION CONTACT: Information on the hearing cancellation may be obtained from Connie M. Downs at (202) 336-8438, via facsimile at (202) 218-0136, or via e-mail at cdown@opic.gov.

Dated: October 22, 2003.
Connie M. Downs,
OPIC Corporate Secretary.

[FR Doc. 03-27022 Filed 10-22-03; 12:07 pm]

BILLING CODE 3210-01-M